DEPARTMENT OF HEALTH AND HUMAN SERVICES

National Institutes of Health

Government-Owned Inventions; Availability for Licensing; Correction

AGENCY: National Institutes of Health, HHS.

ACTION: Notice; correction.

SUMMARY: The Department of Health and Human Services, National Institutes of Health published a Notice in the Federal Register on October 9, 2018. That Notice inadvertently contained an error within the SUPPLEMENTARY INFORMATION.

FOR FURTHER INFORMATION CONTACT: Peter Soukas, J.D., 301-594-8730; peter.soukas@nih.gov. Licensing information and copies of the patent applications listed below may be obtained by communicating with the indicated licensing contact at the Technology Transfer and Intellectual Property Office, National Institute of Allergy and Infectious Diseases, 5601 Fishers Lane, Rockville, MD, 20852; tel. 301-496-2644. A signed Confidential Disclosure Agreement will be required to receive copies of unpublished patent applications.

SUPPLEMENTARY INFORMATION:

Correction

In the Federal Register of October 9, 2018, in FR Doc. 2018-21764, on page 50667, in the first column, correct “HHS Reference No. E-018-2018/0” to read “HHS Reference No. E-167-2018-0”.

Dated: October 12, 2018.
Suzanne M. Frisbie,
Deputy Director, Technology Transfer and Intellectual Property Office, National Institute of Allergy and Infectious Diseases.

[FR Doc. 2018-22722 Filed 10-17-18; 8:45 am]

BILLING CODE 4140-01-P